DEPARTMENT OF STATE

[Public Notice #3684]

Notice of Meetings; International Telecommunication Advisory Committee (ITAC), U.S. Study Group B

The Department of State announces meetings of the U.S. International Telecommunication Advisory Committee. The purpose of the Committee is to advise the Department on policy and technical issues with respect to the International Telecommunication Union (ITU). The meetings will be held at the Department of State, 2201 “C” Street, NW., Washington, DC.

The ITAC will meet from 10:00 to noon in State Department Room 1207 on Tuesday August 14, 2001 to continue follow-up to the World Telecommunication Policy Forum on IP Telephony. The ITAC will also meet from 1:30 to 3:00 on August 14, 2001 to continue preparations for the August CITEL meeting on preparations for ITU Plenipot.

US Study Group B will meet by email on the Study Group B reflector August 13-16, 2001, to prepare for the August 30-September 6 meeting of ITU-T Special Study Group for IMT-2000 and beyond. Study Group B will consider three candidate contributions; “Functional Requirements for Priority Services,” “Framework for Supporting Priority Services,” and “T1 Specifications Submission to ITU-T Special Study Group.” People desiring to participate should send their contact information by email to <minardje@state.gov> as soon as possible so they may be added to the reflector. Comments must be posted to the reflector by August 14, reply comments by August 16, 2001.

Members of the general public may attend these meetings. Directions to meeting locations and actual room assignments may be determined by calling the Secretariat at 202 647-0965/2592. For meetings held at the Department of State: Entrance to the building is controlled; people intending to attend any of the ITAC meetings should send an e-mail to samuelsrn@state.gov no later than 48 hours before the meeting for preclearance. This e-mail should display the name of the meeting and date of meeting, your name, social security number, date of birth, and organizational affiliation. One of the following valid photo identifications will be required for admission: U.S. driver's license, passport, U.S. Government identification card. Enter the Department of State from the C Street Lobby; in view of escorting requirements, non-Government attendees should plan to arrive not less than 15 minutes before the meeting begins.

Attendees may join in the discussions, subject to the instructions of the Chair. Admission of members will be limited to seating available.

Dated: August 1, 2001.
Marian R. Gordon,
Director, Telecommunication & Information Standardization, Department of State.

[FR Doc. 01-19767 Filed 8-2-01; 3:09 pm]

BILLING CODE 4710-45-P